DEPARTMENT OF AGRICULTURE

Forest Service

Tuolumne County Resource Advisory Committee

AGENCY: Forest Service, USDA.

ACTION: Notice of meeting.

SUMMARY: The Tuolumne County Resource Advisory Committee will meet on August 10, 2009 at the City of Sonora Fire Department, in Sonora, California. The purpose of the meeting is to vote on projects, determine the need for an August 17th meeting, and schedule meetings and topics for 2010.

DATES: The meeting will be held August 10, 2009, from 9 a.m. to 3 p.m.

ADDRESSES: The meeting will be held at the City of Sonora Fire Department located at 201 South Shepherd Street, in Sonora, California (CA 95370).

FOR FURTHER INFORMATION CONTACT: Beth Martinez, Committee Coordinator, USDA, Stanislaus National Forest, Mi-Wuk Ranger District, P.O. Box 100, Mi-Wuk Village, CA 95346, (209) 586-3234; E-mail: bethmartinez@fs.fed.us.

SUPPLEMENTARY INFORMATION: The Tuolumne County RAC plans to expand its geographic area to include Mariposa County and will be reviewing and recommending projects in both counties. Agenda items to be covered include: (1) Discussion and voting on projects; (2) determine need for an August 17 meeting; (3) schedule meetings/topics for 2010; (4) public comment on meeting proceedings. This meeting is open to the public.

Dated: July 16, 2009.
Timothy A. Dabney,
Acting Deputy Forest Supervisor.

[FR Doc. E9-17516 Filed 7-23-09; 8:45 am]

BILLING CODE 3410-ED-M